DEPARTMENT OF THE INTERIOR

National Park Service

[NPS-WASO-NAGPRA-NPS0039846; PPWOCRADN0-PCU00RP14.R50000]

Notice of Intended Repatriation: Ralph T. Coe Center for the Arts, Santa Fe, NM

AGENCY: National Park Service, Interior.

ACTION: Notice.

SUMMARY: In accordance with the Native American Graves Protection and Repatriation Act (NAGPRA), the Ralph T. Coe Center for the Arts intends to repatriate certain cultural items that meet the definition of unassociated funerary objects and that have a cultural affiliation with the Indian Tribes or Native Hawaiian organizations in this notice.

DATES: Repatriation of the cultural items in this notice may occur on or after May 5, 2025.

ADDRESSES: Rose Burns, Ralph T. Coe Center for the Arts, 1590B Pacheco, Santa Fe, NM 87505, telephone (505) 983-6372, email rburns@coeartscenter.org.

SUPPLEMENTARY INFORMATION: This notice is published as part of the National Park Service's administrative responsibilities under NAGPRA. The determinations in this notice are the sole responsibility of the Ralph T. Coe Center for the Arts, and additional information on the determinations in this notice, including the results of consultation, can be found in the summary or related records. The National Park Service is not responsible for the determinations in this notice.

Abstract of Information Available

A total of two unassociated funerary objects have been requested for repatriation. The two objects are shell gorgets (NA1164 and NA0589).

The Ralph T. Coe Center for the Arts acquired NA1164 and NA0589 in 2011 as gifts from Ralph T. Coe.

Ralph T. Coe acquired NA1164 in January 2006 from Toby Herbst. Documentation in the Coe Center's database states that “Original collector Mr. A.C. Lunsford of Lincoln County, Kentucky preserved the piece in his collection for more than 30 years (before 1878) who sold it to Cornel Bennett H. Young.” NA1164 is from Crab Orchard Spring in Lincon County, KY. The Coe Center for the Arts has no further provenance information on this object.

Ralph T. Coe acquired NA0589 on March 22, 2000 from Toby Herbst. Documentation in the Coe Center's database states indicates that this object was previously part of the Heye Foundation Collection and that it was sold at a Christie's Auction in the early 1990's. This object is from the Chickamauga area, and was previously misidentified as being from Spiro Mound. The Coe Center for the Arts has no further provenance information on this object.

The two gorgets are from within the traditional aboriginal territory of the Cherokee Nation, Eastern Band of Cherokee Indians, and United Keetoowah Band of Cherokee Indians in Oklahoma.

There are no known hazardous substances used to treat NA1164 or NA0589.

Determinations

The Ralph T. Coe Center for the Arts has determined that:

• The two unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Cherokee Nation; Eastern Band of Cherokee Indians; and the United Keetoowah Band of Cherokee Indians in Oklahoma.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 5, 2025. If competing requests for repatriation are received, the Ralph T. Coe Center for the Arts must determine the most appropriate requestor prior to repatriation. Requests for joint repatriation of the cultural items are considered a single request and not competing requests. The Ralph T. Coe Center for the Arts is responsible for sending a copy of this notice to the Indian Tribes and Native Hawaiian organizations identified in this notice and to any other consulting parties.

Authority: Native American Graves Protection and Repatriation Act, 25 U.S.C. 3004 and the implementing regulations, 43 CFR 10.9.

Dated: March 26, 2025.
Melanie O'Brien,
Manager, National NAGPRA Program.

[FR Doc. 2025-05816 Filed 4-3-25; 8:45 am]

BILLING CODE 4312-52-P